DEPARTMENT OF COMMERCE

National Oceanic and Atmospheric Administration

RIN 0648-XC732

Endangered and Threatened Species; Notice of Intent To Prepare a Recovery Plan for Oregon Coast Coho Salmon Evolutionarily Significant Unit

AGENCY: National Marine Fisheries Service, National Oceanic and Atmospheric Administration, Commerce.

ACTION: Notice of intent to prepare a recovery plan; request for information.

SUMMARY: The National Marine Fisheries Service (NMFS) is announcing its intent to prepare a recovery plan for Oregon Coast coho salmon (Oncorhynchus kisutch) Evolutionarily Significant Unit (ESU) (OC coho) and requests information from the public. We are required by the Endangered Species Act of 1973 (ESA), as amended, to develop plans for the conservation and survival of federally listed species, i.e., recovery plans.

DATES: To allow adequate time to conduct a review of information submitted, all information must be received no later than July 25, 2013.

ADDRESSES: Information may be submitted by any of the following methods:

• Via email: OCcohorecovery.nwr@noaa.gov (No files larger than 5MB can be accepted).

• Via U.S. mail: Rob Walton, National Marine Fisheries Service, 1201 NE Lloyd Blvd., Suite 1100, Portland, OR 97232 ATTN: OC Coho Recovery Coordinator.

• Hand delivered: National Marine Fisheries Service, National Marine Fisheries Service, 1201 NE Lloyd Blvd., Suite 1100, Portland, OR 97232 ATTN: OC coho Recovery Coordinator. Business hours are 8 a.m. to 4:30 p.m. Monday through Friday, except Federal holidays.

• Via fax: 503-230-5441. Please include the following on the cover page of the fax “ATTN: OC coho Recovery Coordinator.”

FOR FURTHER INFORMATION CONTACT: Rob Walton, OC coho Recovery Coordinator, (503) 231-2285

SUPPLEMENTARY INFORMATION: NMFS is charged with the recovery of OC coho, a species listed under the ESA. Recovery means that listed species and their ecosystems are restored, and their future secured, so that the protections of the ESA are no longer necessary. The ESA specifies that recovery plans must include: (1) A description of management actions necessary to achieve the plan's goals for the conservation and survival of the species; (2) objective, measurable criteria which, when met, would result in the species being removed from the list; and (3) estimates of the time and costs required to achieve the plan's goal and the intermediate steps towards that goal. Section 4(f) of the ESA, as amended in 1988, requires that public notice and an opportunity for public review and comment be provided during recovery plan development. We are soliciting relevant information related to OC coho and their freshwater/marine habitats, including:

1. Criteria for removing OC coho from the list of threatened and endangered species;

2. Human activities that contribute to the ESA listing factors (section 4(a)(1)(A)-(E)):

(A) the present or threatened destruction, modification, or curtailment of its habitat or range;

(B) overutilization for commercial, recreational, scientific, or educational purposes;

(C) disease or predation;

(D) the inadequacy of existing regulatory mechanisms;

(E) other natural or manmade factors affecting its continued existence.

3. Physical, biological or chemical features of the environment that limit the recovery of OC coho;

4. Strategies and/or actions necessary to recover OC coho;

5. Estimates of time and cost to implement recovery actions;

6. Critical knowledge gaps and/or uncertainties that need to be resolved to better inform recovery efforts; and

7. Research, monitoring and evaluation needs to address knowledge gaps and uncertainties, to assess the species' status, or to evaluate progress in addressing the ESA listing factors relative to recovery goals.

Upon completion, the proposed Recovery Plan will be available for public review and comment through the publication of a Federal Register Notice.

Preliminary Table of Contents

We have developed a draft table of contents for the proposed Recovery Plan for OC coho which can be accessed at http://www.nwr.noaa.gov/protected_species/salmon_steelhead/recovery_planning_and_implementation/oregon_coast/oregon_coast_salmon_recovery_domain.html.

Authority: 16 U.S.C. 1531 et seq.

Dated: June 19, 2013.
Helen Golde,
Deputy Director, Office of Protected Resources, National Marine Fisheries Service.

[FR Doc. 2013-15106 Filed 6-24-13; 8:45 am]

BILLING CODE 3510-22-P